DEPARTMENT OF COMMERCE

Foreign-Trade Zones Board

[Docket 48-2010]

Foreign-Trade Zone 136—Brevard County, FL; Application for Reorganization Under Alternative Site Framework

An application has been submitted to the Foreign-Trade Zones (FTZ) Board (the Board) by the Canaveral Port Authority, grantee of FTZ 136, requesting authority to reorganize the zone under the alternative site framework (ASF) adopted by the Board (74 FR 1170, 1/12/09; correction 74 FR 3987, 1/22/09). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on August 2, 2010.

FTZ 136 was approved by the Board on March 16, 1987 (Board Order 349, 52 FR 9904, 3/27/1987) and expanded on January 29, 1991 (Board Order 507, 2/5/91).

The current zone project includes the following sites: Site 1 (476 acres)—Canaveral Port Authority Complex, Port Canaveral, Brevard County; Site 2 (500 acres)—Titusville-Cocoa Space Center Executive Airport Industrial Park, Titusville; Site 3 (495 acres)—Melbourne Regional Airport Industrial Park, Melbourne; Site 4 (24 acres)—Tate Industrial Park at State Road 520, Cocoa; and Site 5 (5 acres)—718 and 720 North Drive, Melbourne.

The grantee's proposed service area under the ASF would be Brevard County, Florida, as described in the application. If approved, the grantee would be able to serve sites throughout the service area based on companies' needs for FTZ designation. The proposed service area is within and adjacent to the Port Canaveral Customs and Border Protection port of entry.

The applicant is requesting authority to reorganize its existing zone project to include Sites 1, 2, 3, and 4 of the existing sites as “magnet” sites and existing Site 5 as a “usage-driven” site. Because the ASF only pertains to establishing or reorganizing a general-purpose zone, the application would have no impact on FTZ 136's authorized subzones.

In accordance with the Board's regulations, Maureen Hinman of the FTZ Staff is designated examiner to evaluate and analyze the facts and information presented in the application and case record and to report findings and recommendations to the Board.

Public comment is invited from interested parties. Submissions (original and 3 copies) shall be addressed to the Board's Executive Secretary at the address below. The closing period for their receipt is October 5, 2010. Rebuttal comments in response to material submitted during the foregoing period may be submitted during the subsequent 15-day period to October 20, 2010.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz. For further information, contact Maureen Hinman at maureen.hinman@trade.gov or (202) 482-0627.

Dated: August 2, 2010.
Andrew McGilvray,
Executive Secretary.

[FR Doc. 2010-19460 Filed 8-5-10; 8:45 am]

BILLING CODE P